DEPARTMENT OF LABOR

Employment and Training Administration

[TA-W-62,656]

Saint-Gobain Abrasives, Norton Pike Division Including On-Site Leased Workers From Allstaff, Littleton, NH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility To Apply for Worker Adjustment Assistance and Alternative Trade Adjustment Assistance on January 16, 2008, applicable to workers of Saint-Gobain Abrasives, Norton Pike Division, Littleton, New Hampshire. The notice was published in the Federal Register on February 1, 2008 (73 FR 6212).

At the request of the State agency, the Department reviewed the certification for workers of the subject firm. The workers are engaged in the production of abrasive stones.

New information shows that leased workers of Allstaff were employed on-site at the Littleton, New Hampshire location of Saint-Gobain Abrasives, Norton Pike Division. The Department has determined that these workers were sufficiently under the control of the subject firm to be considered leased workers.

Based on these findings, the Department is amending this certification to include leased workers of Allstaff working on-site at the Littleton, New Hampshire location of the subject firm.

The intent of the Department's certification is to include all workers employed at Saint-Gobain Abrasives, Norton Pike Division, Littleton, New Hampshire who were adversely-impacted by a shift in production of abrasive stones to Mexico.

The amended notice applicable to TA-W-62,656 is hereby issued as follows:

“All workers of Saint-Gobain Abrasives, Norton Pike Division, including on-site leased workers from Allstaff, Littleton, New Hampshire, who became totally or partially separated from employment on or after January 9, 2007, through January 16, 2010, are eligible to apply for adjustment assistance under section 223 of the Trade Act of 1974, and are also eligible to apply for alternative trade adjustment assistance under section 246 of the Trade Act of 1974.”

Signed at Washington, DC, this 13th day of February 2008.
Richard Church,
Certifying Officer, Division of Trade Adjustment Assistance.

[FR Doc. E8-3222 Filed 2-20-08; 8:45 am]

BILLING CODE 4510-FN-P